NATIONAL SCIENCE FOUNDATION

Advisory Panel for Cell Biology; Notice of Meeting

In accordance with the Federal Advisory Committee Act (Pub. L. 92-463, as amended), the National Science Foundation announces the following meeting:

Name: Advisory Panel for Cell Biology (1136)—(Panel A).

Date/Time: April 12-14, 2000; 8:30 am to 6 pm.

Place: National Science Foundation, Room 120, 4201 Wilson Boulevard, Arlington, VA 22230.

Type of Meeting: Closed.

Contact Person: Dr. Randolph Addison or Dr. Richard Rodewald, Program Directors, Cell Biology Program, National Science Foundation, Room 655, 4201 Wilson Boulevard, Arlington, VA 22230. (703) 306-1442.

Purpose of Meeting: To provide advice and recommendations concerning proposals submitted to NSF for financial support.

Agenda: To review and evaluate research proposals submitted to the Siganl Transduction and Regulation Program as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management Officer.

[FR Doc. 00-5876 Filed 3-9-00; 8:45 am]

BILLING CODE 7555-01-M